DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

Date and Time: March 19, 2020, 10:00 a.m.

Place: Room 2C, 888 First Street NE, Washington, DC 20426, Open to the public via Webcast only.¹

¹ A free webcast of this event is available through www.ferc.gov. Anyone may view this event via the internet by navigating to www.ferc.gov Calendar of Events and locating this event in the Calendar. This event will contain a link to the webcast. Members of the media who have Capitol Hill accreditation, or who represent media outlets that regularly follow FERC, can attend this meeting but must pre-register at https://www.ferc.gov/whats-new/registration/03-19-20-form.asp.

Status: Open.

Matters to be Considered: Agenda, * NOTE—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1066th Meeting—Open Meeting
[March 19, 2020, 10:00 a.m.]
Item No. | Docket No. | Company
Administrative
A-1 | AD20-1-000 | Agency Administrative Matters.
A-2 | AD20-2-000 | Customer Matters, Reliability, Security and Market Operations.
A-3 | AD06-3-000 | Market Update.
Electric
E-1 | RM20-10-000 | Electric Transmission Incentives Policy Under Section 219 of the Federal Power Act.
E-2 | ER19-1965-000, ER19-1965-001 | Alcoa Power Generating Inc.
E-3 | ER19-1887-000, ER19-1887-001 | Emera Maine.
E-4 | ER19-1961-000, ER19-1961-002 | GridLiance High Plains LLC.
E-5 | ER19-1936-000, ER19-1936-001 | Idaho Power Company.
E-6 | ER19-1951-000 | ISO New England Inc. and Participating Transmission Owners Administrative Committee.
E-7 | ER19-1904-000 | Nevada Power Company.
E-8 | ER19-1947-000, ER19-1947-001 | Puget Sound Energy, Inc.
E-9 | ER19-2112-000 | Sky River LLC.
E-10 | ER19-2233-000, ER19-2233-001 | Smoky Mountain Transmission LLC.
E-11 | ER19-2165-001 | Western Interconnect LLC.
E-12 | OMITTED |
E-13 | OMITTED |
E-14 | ER18-462-001 | Midcontinent Independent System Operator, Inc.
E-15 | ER11-4081-006 | Midwest Independent Transmission System Operator, Inc.
E-16 | ER17-1138-002, ER17-1138-003 | PJM Interconnection, L.L.C.
E-17 | ER19-1952-000 | ISO New England Inc., New England Power Pool Participants Committee, and Participating Transmission Owners Administrative Committee.
E-18 | RM20-11-000 | Reporting of Transmission Investments.
E-19 | ER20-681-000, | Tri-State Generation and Transmission Association, Inc.
| ER20-682-000 | Thermo Cogeneration Partnership, L.P.
E-20 | ER20-676-000, ER20-683-000, ER20-683-001, EL20-26-000 | Tri-State Generation and Transmission Association, Inc.
E-21 | ER20-686-000, ER20-688-000, ER20-688-001, ER20-726-000. ER20-728-000, EL20-25-000 | Tri-State Generation and Transmission Association, Inc.
E-22 | ER20-689-000, ER20-690-000, ER20-691-000, ER20-691-001, ER20-693-000, ER20-694-000, ER20-694-001, ER20-695-000, ER20-695-001, ER20-772-000, ER20-782-000, ER20-872-000, ER20-970-000 | Tri-State Generation and Transmission Association, Inc.
E-23 | EL20-16-000 | Tri-State Generation and Transmission Association, Inc.
E-24 | OMITTED |
E-25 | ER20-855-000 | Midcontinent Independent System Operator, Inc.
E-26 | ER20-170-000, ER20-170-001 | Midcontinent Independent System Operator, Inc.
E-27 | EL15-70-002 | Public Citizen, Inc. v. Midcontinent Independent System Operator, Inc.
| EL15-71-002 | The People of the State of Illinois By Illinois Attorney General Lisa Madigan v. Midcontinent Independent System Operator, Inc.
| EL15-72-002 | Southwestern Electric Cooperative, Inc. v. Midcontinent Independent System Operator, Inc., Dynegy, Inc. and Sellers of Capacity into Zone 4 of the 2015-2016 MISO Planning Resource Auction.
E-28 | OMITTED |
E-29 | TX19-1-000 | Mountain Breeze Wind, LLC.
E-30 | EL15-55-003 | Modesto Irrigation District and Turlock Irrigation District v. Pacific Gas and Electric Company
E-31 | ER20-629-000 | NYC ENERGY LLC.
Hydro
H-1 | P-14991-001 | Premium Energy Holdings, LLC.
H-2 | P-606-027, P-606-037 | Pacific Gas and Electric Company.
H-3 | P-2800-050 | Essex Company, LLC.
Certificates
C-1 | CP19-78-000 | PennEast Pipeline Company, LLC.
C-2 | CP19-475-000 | Gulfstream Natural Gas System, L.L.C.
C-3 | CP19-474-000 | Florida Gas Transmission Company, LLC.
C-4 | CP19-125-000 | Gulf South Pipeline Company, LP.
C-5 | CP20-1-000 | ANR Pipeline Company.
C-6 | CP18-485-001 | Texas Eastern Transmission, LP and Transcontinental Gas Pipe Line Company, LLC.
| CP18-505-001 | Texas Eastern Transmission, LP.
C-7 | CP17-495-000 | Jordan Cove Energy Project L.P.
| CP17-494-000 | Pacific Connector Gas Pipeline, LP.

Issued: March 12, 2020.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2020-05571 Filed 3-13-20; 11:15 am]

BILLING CODE 6717-01-P